FEDERAL COMMUNICATIONS COMMISSION

[FR ID 185218]

Open Commission Meeting Wednesday, November 15, 2023

The Federal Communications Commission will hold an Open Meeting on the subjects listed below on Wednesday, November 15, 2023, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | WIRELINE COMPETITION | TITLE: Preventing Digital Discrimination (GN Docket No. 22-69).
|  | SUMMARY: The Commission will consider a Report and Order and Further Notice of Proposed Rulemaking to establish a framework to facilitate equal access to broadband internet access service by preventing digital discrimination of access and seek additional comment on matters pertaining to the Commission's administration of Section 60506 of the Infrastructure Investment and Jobs Act and our efforts to facilitate equal access.
2 | WIRELINE COMPETITION | TITLE: Empowering Survivors of Domestic Violence (WC Docket No. 22-238), Lifeline and Link Up Reform Modernization (WC Docket No. 11-42), Affordable Connectivity Program (WC Docket No. 21-450).
|  | SUMMARY: The Commission will consider a Report and Order that would adopt rules to implement the Safe Connections Act of 2022 to help survivors of domestic violence and similar crimes separate lines from shared mobile accounts that include their abusers, protect the privacy of calls made by survivors to domestic abuse hotlines, and support survivors who face financial hardship through the Commission's affordability programs.
3 | CONSUMER & GOVERNMENTAL AFFAIRS | TITLE: Understanding Impacts of Artificial Intelligence on Robocalls and Robotexts (CG Docket No. 23-362).
|  | SUMMARY: The Commission will consider a Notice of Inquiry seeking to better understand the implications of Artificial Intelligence technologies as part of the Commission's ongoing efforts to protect consumers from unwanted and illegal telephone calls and text messages under the Telephone Consumer Protection Act (TCPA).
4 | WIRELINE COMPETITION | TITLE: Protecting Consumers from SIM Swapping and Port-Out Fraud (WC Docket No. 21-341).
|  | SUMMARY: The Commission will consider a Report and Order and Further Notice of Proposed Rulemaking that would adopt rules to protect consumers from SIM swap and port-out fraud, two fraudulent practices that bad actors use to take control of consumers' cell phones, and would also seek comment on whether to harmonize the Commission's existing requirements governing customer access to customer proprietary network information with the new SIM change authentication and protection measures in the Report and Order.
5 | WIRELINE TELE-COMMUNICATIONS | TITLE: Amending Amateur Radio Rules for Greater Flexibility in Data Communications (WT Docket No. 16-239).
|  | SUMMARY: The Commission will consider a Report and Order and Further Notice of Proposed Rulemaking that would eliminate the symbol rate (also known as baud rate) limitation and establish a bandwidth limitation that would provide flexibility to use modern digital emissions, thereby promoting innovation and experimentation in the amateur service. The item would also propose removal of the baud rate limitation in several additional bands.
6 | WIRELINE COMPETITION | TITLE: Reducing Regulatory Requirements for Rural Provider of Long-Distance Access Service (WC Docket No. 22-407).
|  | SUMMARY: The Commission will consider a Declaratory Ruling and Memorandum Opinion and Order that would grant the Minnesota Independent Equal Access Corporation (MIEAC) relief from dominant carrier regulation with respect to its provision of centralized equal access (CEA) service, and regulate MIEAC as a non-dominant competitive LEC for this service going forward. In light of declining demand, intervening exchange access service regulatory reforms, and technological changes in the voice services marketplace generally, dominant carrier regulation of MIEAC's CEA service is no longer necessary to serve the public interest.
7 | ENFORCEMENT | TITLE: Enforcement Bureau Action.
|  | SUMMARY: The Commission will consider an enforcement action.
8 | ENFORCEMENT
9 | ENFORCEMENT | TITLE: Enforcement Bureau Action.
|  | SUMMARY: The Commission will consider an enforcement action.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Dated: November 8, 2023.
Marlene Dortch,
Secretary.

[FR Doc. 2023-25297 Filed 11-15-23; 8:45 am]

BILLING CODE 6712-01-P